DEPARTMENT OF DEFENSE

Office of the Secretary

Federal Advisory Committee; Advisory Panel on Department of Defense Capabilities for Support of Civil Authorities After Certain Incidents

AGENCY: Office of the Assistant Secretary of Defense (Homeland Defense and Americas' Security Affairs), DoD.

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense announces that the Advisory Panel on Department of Defense Capabilities for Support of Civil Authorities after Certain Incidents (hereinafter referred to as the Advisory Panel) will meet on June 2 and 3, 2010. Subject to the availability of space, this meeting is open to the public.

DATES: The meeting will be held on Wednesday, June 2, 2010, from 8:30 a.m. to 5 p.m. and on Thursday, June 3, 2010, from 8:30 a.m. to 5 p.m. Eastern Daylight Time (hereinafter referred to as EDT).

ADDRESSES: The meeting will be held at the RAND Corporation, 1200 South Hayes Street, Arlington, Virginia 22202, 4th floor conference facilities (see below under Public Accessibility to the Meeting for additional information).

FOR FURTHER INFORMATION CONTACT: Advisory Panel's Points of Contact at the Federally Funded Research and Development Center (FFRDC): Andrew Morral, Principal Investigator, telephone 703-413-1100, x5119, e-mail: morral@rand.org; The RAND Corporation, 1200 South Hayes Street, Arlington, Virginia, 22202.

Advisory Panel's Designated Federal Officer: Catherine Polmateer, telephone: 703-697-6370, OASD(HD&ASA), Resources Integration, 2600 Defense Pentagon, Washington, DC 20301-2600, e-mail: Catherine.Polmateer@osd.mil.

SUPPLEMENTARY INFORMATION:

Purpose of the Meeting

The panel will discuss the key issues in its congressional mandate with senior members of U.S. Government agencies and State and local officials. It will discuss preliminary findings, conclusions, and recommendations, based on its activities to date. It will decide on topics for research and other activities for future meetings, based on its congressionally-mandated tasks.

Agenda

• Opening Remarks by the Chairman.

• Discussions with senior officials of the U.S. Departments of Justice, Health and Human Services, Energy, and Homeland Security.

• Discussions with State Governors and other State and local officials.

• Discussion of preliminary findings, conclusions, and recommendations.

• Discussion of future meetings.

• Administration.

Public Accessibility to the Meeting

Pursuant to 5 U.S.C. 552b and 41 CFR 102-3.140 through 102-3.165, and the availability of space, this meeting is open to the public. Seating is on a first-come basis.

Note: Members of the public who choose to attend the meeting should allow approximately 15 minutes to clear building security on the ground floor (Hayes Street entrance) and RAND security (4th floor reception area).

Written Statements

Pursuant to 41 CFR 102-3.105(j) and 102-3.140, and section 10(a)(3) of the Federal Advisory Committee Act of 1972 (FACA), the public or interested organizations may submit written statements to the Advisory Panel about its mission and functions. Written statements may be submitted at any time or in response to the stated agenda of a planned meeting of the Advisory Panel.

All written statements shall be submitted to the Designated Federal Officer for the Advisory Panel, and this individual will ensure that the written statements are provided to the membership for their consideration. Contact information for the Designated Federal Officer is provided in this notice or can be obtained from the GSA's FACA Database: https://www.fido.gov/facadatabase/public.asp.

Written statements submitted in response to the agenda mentioned in this notice must be received by the Designated Federal Officer (see FOR FURTHER INFORMATION CONTACT) no later than 11 a.m., EDT, Wednesday, May 26, 2010. Written statements received after this date may not be provided to or considered by the Advisory Panel until its next meeting.

The Designated Federal Officer will review all timely submissions with the Advisory Panel Chairperson and ensure they are provided to all members of the Advisory Panel before the meeting that is the subject of this notice.

All written statements received by the Designated Federal Officer will be retained as part of the committee's official records. In addition, statements timely submitted in response to a stated agenda of a planned meeting and provided to committee members in preparation for a meeting, will be made available to the public during the meeting and posted to the GSA's FACA Database.

Oral Statements

In addition to written statements, and time permitting, the Chairperson of the Advisory Panel may allow Oral Statements by the public to the Members of the Advisory Panel. Any person seeking to address orally the Advisory Panel must submit a request to the Designated Federal Officer no later than 11 a.m., EDT, Wednesday, May 26, 2010. Oral statements will be limited to five minutes (or less depending on time available). The Designated Federal Officer will provide timekeeping for oral statements and will notify the Chairperson when a presenter has reached allotted time.

Dated: May 4, 2010.
Mitchell S. Bryman,
Alternate OSD Federal Register Liaison Officer, Department of Defense.

[FR Doc. 2010-10845 Filed 5-6-10; 8:45 am]

BILLING CODE 5001-06-P